DEPARTMENT OF COMMERCE

National Oceanic and Atmospheric Administration

50 CFR Part 622

[Docket No. 150626556-5886-02]

RIN 0648-BD81

Fisheries of the Caribbean, Gulf of Mexico, and South Atlantic; Coral, Coral Reefs, and Live/Hard Bottom Habitats of the South Atlantic Region; Amendment 8; Correction

Correction

In rule document 2015-25488, appearing on pages 60565-60566 in the Issue of Wednesday, October 7, 2015, make the following corrections:

§ 622.224 [Corrected]

(1) On page 60566 in the second column, Amendatory instruction 2 should read as follows:

2. In § 622.224, the entries for the Origin, point 7, and 8 in the table in paragraph (b)(1) and paragraph (b)(1)(i)(C) are revised to read as follows:

(2) On the same page the table should read:

Point | North lat. | West long.
Origin | 29°43′29.82″ | 80°14′48.06″
* * * * *
7 | 28°56′01.86″ | 80°08′53.64″
8 | 28°52′44.40″ | 80°08′53.04″
* * * * *

[FR Doc. C1-2015-25488 Filed 2-12-16; 8:45 am]

BILLING CODE 1505-01-D